DEPARTMENT OF LABOR

Mine Safety and Health Administration

Petitions for Modification

The following parties have filed petitions to modify the application of existing safety standards under section 101(c) of the Federal Mine Safety and Health Act of 1977.

1. Phelps Dodge Sierrita, Inc.

[Docket No. M-2006-002-M]

Phelps Dodge Sierrita, Inc., 6200 W. Duval Mine Road, Green Valley, Arizona 85614 has filed a petition to modify the application of 30 CFR 56.6309 (Fuel oil requirements for ANFO) to its Sierrita Mine (MSHA I.D. No. 02-00144) located in Pima County, Arizona. The petitioner proposes to use recycled waste oil blended with diesel fuel to produce ammonium nitrate-fuel oil for use as a blasting agent. The petitioner has listed specific procedures in this petition for modification that would be followed when the proposed alternative method is implemented. The petitioner asserts that the proposed alternative method would provide at least the same measure of protection as the existing standard.

2. Bridger Coal Company

[Docket No. M-2006-008-C]

Bridger Coal Company, P.O. Box 68, Point of Rocks, Wyoming 82942 has filed a petition to modify the application of 30 CFR 75.1909(b)(6) (Nonpermissible diesel-powered equipment; design and performance requirements) to its Bridger Underground Mine (MSHA I.D. No. 48-01646) located in Sweetwater County, Wyoming. The petitioner requests a modification of the existing standard to permit the use of diesel-powered graders that are equipped with service brakes on the four (4) rear wheels only, and limit the speed of the grader to a maximum speed of 10 mph by permanently blocking out gear(s) or any gear ratio(s) that provide higher speeds for both forward and reverse. The petitioner proposes to train the grader operators to recognize appropriate levels of speed consistent with roadway conditions and slopes, to lower the moldboard (grader blade) to provide additional stopping capability in emergencies, and to recognize the transmission gear blocking device and its proper application and requirements. The petitioner states that use of the grader will be in compliance with all other applicable requirements of 30 CFR parts 75 and 77. The petitioner asserts that the proposed alternative method would provide at least the same measure of protection as the existing standard.

Request for Comments

Persons interested in these petitions are encouraged to submit comments via e-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before May 5, 2006. Copies of these petitions are available for inspection at that address.

Dated at Arlington, Virginia this 30th day of March 2006.
Robert F. Stone,
Acting Director, Office of Standards, Regulations, and Variances.

[FR Doc. E6-4939 Filed 4-4-06; 8:45 am]

BILLING CODE 4510-43-P